DEPARTMENT OF TRANSPORATION

Federal Aviation Administration

High Density Airports; Notice of Reagan National Airport Lottery Allocation Procedures

AGENCY: Federal Aviation Administration, DOT.

ACTION: Notice of lottery and allocation procedures for slots at Washington Reagan National Airport; extension of submission deadline.

SUMMARY: On November 17, 2004, the FAA announced that a lottery will be held on December 3, 2004, to allocate six available commuter slots at Washington's Reagan National Airport (DCA). (69 FR 67382; November 17, 2004). The closing date for carriers to submit requests to participate in the lottery is November 18, 2004. The FAA is extending that date for submissions to November 29, 2004.

FOR FURTHER INFORMATION CONTACT: Lorelei Peter, Operations and Air Traffic Law Branch, Regulations Division, Office of the Chief Counsel, Federal Aviation Administration, 800 Independence Avenue, SW., Washington, DC 20591; telephone number (202) 267-3134.

SUPPLEMENTARY INFORMATION:

Background

On November 10, 2004, the FAA issued a notice announcing a lottery to allocate six commuter slots at DCA (69 FR 67382; November 17, 2004). According to the provisions of the notice, carriers seeking to participate in the lottery must notify the FAA in writing no later than 5 p.m. e.d.t. on November 18, 2004. The FAA is extending this submission deadline to 5 p.m. e.s.t on November 29, 2004. This extension will allow adequate time for carriers to respond to the lottery notice in view of the original publication date and the Thanksgiving holiday.

Issued on November 17, 2004 in Washington, DC.
James Whitlow,
Deputy Chief Counsel.

[FR Doc. 04-25880 Filed 11-17-04; 2:52 pm]

BILLING CODE 4910-13-M